DEPARTMENT OF COMMERCE

National Oceanic and Atmospheric Administration

[RTID 0648-XB261]

Caribbean Fishery Management Council; Public Meeting

AGENCY: National Marine Fisheries Service (NMFS), National Oceanic and Atmospheric Administration (NOAA), Commerce.

ACTION: Notice of public meeting.

SUMMARY: The Caribbean Fishery Management Council (CFMC) will hold the 175th public meeting (virtual) to address the items contained in the tentative agenda included in the SUPPLEMENTARY INFORMATION.

DATES: The 175th CFMC public meeting (virtual) will be held on August 11, 2021, from 9 a.m. to 5 p.m. The meeting will be at AST (U.S. Caribbean time, presently same as EST).

ADDRESSES: You may join the 175th CFMC public meeting (virtual) via Zoom, from a computer, tablet or smartphone by entering the following address:

Join Zoom Meeting

https://us02web.zoom.us/j/83060685915?pwd=VmVsc1orSUtKck8xYk1XOXNDY1ErZz09

Meeting ID: 830 6068 5915

Passcode: 995658

One Tap Mobile

+17879451488,,83060685915#,,,,,,0#,,995658# Puerto Rico

+17879667727,,83060685915#,,,,,,0#,,995658# Puerto Rico

Dial by Your Location

+1 787 945 1488 Puerto Rico

+1 787 966 7727 Puerto Rico

+1 939 945 0244 Puerto Rico

Meeting ID: 830 6068 5915

Passcode: 995658

In case there are problems and we cannot reconnect via Zoom, the meeting will continue using GoToMeeting.

You can join the meeting from your computer, tablet or smartphone at https://global.gotomeeting.com/join/971749317. You can also dial in using your phone. United States: +1 (408) 650-3123 Access Code: 971-749-317.

FOR FURTHER INFORMATION CONTACT: Miguel A. Rolón, Executive Director, Caribbean Fishery Management Council, 270 Muñoz Rivera Avenue, Suite 401, San Juan, Puerto Rico 00918-1903, telephone: (787) 398-3717.

SUPPLEMENTARY INFORMATION: The following items included in the tentative agenda will be discussed:

—Call to Order

—New Members Oath

—Roll Call

—Election of Officers

—Adoption of Agenda

—Consideration of 174th Council Meeting Verbatim Transcriptions

—Executive Director's Report

10 a.m.-10:30 a.m.

—SSC Report—Dr. Richard Appeldoorn

—SEFSC Update

10:30 a.m.-12:30 p.m.

—Island Based Fishery Management Plans (IBFMPs) Status Update

—Generic Amendment to the Fishery Management Plans for Puerto Rico, St. Thomas and St. John, and St. Croix: Modification to the Buoy Gear Definition: Potential Final Action to Submit to the Secretary of Commerce—María López-Mercer, SERO/NOAA Fisheries

Comment Period

—Final Action to Submit the Generic Framework Amendment to the Puerto Rico, St. Thomas and St. John, and St. Croix Fishery Management Plans: Spiny Lobster Management Reference Points to the Secretary of Commerce—Sarah Stephenson, SERO/NOAA Fisheries

Comment Period

12:30 p.m.-1:30 p.m.

—Lunch

1:30 p.m.-2 p.m.

—SEAMAP-Caribbean Gold Copy—J.J. Cruz Motta

2 p.m.-2:30 p.m.

— Outreach and Education Report—Alida Ortiz

2:30 p.m.-3 p.m.

—Enforcement Issues:

—Puerto Rico-DNER

—USVI-DPNR

—U.S. Coast Guard

—NMFS/NOAA

3 p.m.-5 p.m.

—Exempted Fishing Permit (EFP) Update—Sarah Stephenson, SERO/NOAA Fisheries

—5-Minutes Public Comment Period

—Other Business

—Next Meeting

Note (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on August 11, 2021, at 9 a.m. AST, and will end on August 11, 2021, at 5 p.m. AST. Other than the start time on the first day of the meeting, interested parties should be aware that discussions may start earlier or later than indicated in the agenda, at the discretion of the Chair.

Special Accommodations

Simultaneous interpretation will be provided.

For simultaneous interpretation English-Spanish-English follow your Zoom screen instructions. You will be asked which language you prefer when you join the meeting.

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: July 20, 2021.
Tracey L. Thompson,
Acting Deputy Director, Office of Sustainable Fisheries, National Marine Fisheries Service.

[FR Doc. 2021-15708 Filed 7-22-21; 8:45 am]

BILLING CODE 3510-22-P